DEPARTMENT OF TRANSPORTATION

Federal Aviation Administration

Deadline for Notification of Intent To Use the Airport Improvement Program (AIP) Primary, Cargo, and Nonprimary Entitlement Funds for Fiscal Year 2010

AGENCY: Federal Aviation Administration, DOT.

ACTION: Notice, correction.

SUMMARY: On January 25, 2010, the Federal Aviation Administration (FAA) published a notice in the Federal Register. (75 FR 3954). This action corrects an error in two dates in that document. The notice announced that February 22, 2010, is the deadline for each airport sponsor to notify the FAA whether or not it will use its fiscal year 2010 entitlement funds available under Public Law No. 111-117 to accomplish Airport Improvement Program (AIP)-eligible projects that the sponsor previously identified through the Airports Capital Improvement Plan (ACIP) process during the preceding year.

FOR FURTHER INFORMATION CONTACT: Mr. Frank J. San Martin, Manager, Airports Financial Assistance Division, APP-500, on (202) 267-3831.

Correction

In Notice document (Federal Register Doc. 2010-1291) published on January 25, 2010 (75 FR 3954) make the following correction:

On page 3955, the first Column, in paragraph one the date October 1, 2008, is corrected to read, October 1, 2009. On page 3955, the first Column, in paragraphs one and two, the date March 3, 2010, is corrected to read, March 17, 2010.

Frank J. San Martin,
Manager, Airports Financial Assistance Division, Office of Airport Planning and Programming.

[FR Doc. 2010-2463 Filed 2-3-10; 8:45 am]

BILLING CODE 4910-13-P